DEPARTMENT OF HEALTH AND HUMAN SERVICES

Indian Health Service

AGENCY: Indian Health Service, HHS.

ACTION: Request for public comment: 60-day proposed information collection: Indian Health Service Contract Health Service Report.

SUMMARY: The Indian Health Service (IHS), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the IHS is providing a 60-day advance opportunity for public comment on a proposed new collection of information to be submitted to the Office of Management and Budget for review.

Proposed Collection:

Title: 0917-0002, “ Indian Health Service Contract Health Service Report”.

Type of Information Collection Request: Extension, without revision, of currently approved information collection 0917-0002, “Indian Health Service Contract Health Service Report”.

Form Number: IHS 843-1A.

Need and Use of Information Collection: The purpose for the collection is to authorize contract health care providers to provide health care services to eligible IHS patients. The IHS form 843-1A “Order for Health Services” was developed specifically for this collection of information. Other than revising the title “Purchase-Delivery Order for Health Services” to read “Order for Health Services”, acquisition terms on the front of the form, the contract clauses contained on the back of copy 3 of the form, the form has not been revised and there is no change in the substance or in the use of the form. A copy of the form is at Attachment 2.

The majority of the information contained in this form is completed by IHS staff from existing IHS automated patient and vendor data files. Contract health care providers complete and sign the streamlined form and submit it, along with a completed standard Centers for Medicare & Medicaid Services (CMS) health claim form (CMS 1450 (UB 92) and CMS 1500), to the IHS for verification and payment. The CMS forms are used and accepted nation-wide by the health care industry and IHS is an approved user.

The information collection is needed to administer and manage the contract health care services provided to eligible American Indian and Alaska Native patients. The form is used to: Authorize contract health care services for eligible patients; certify that the health care services requested and authorized have been performed by the contract provider(s); process payments for health care services performed by such providers; obtain program data; and, serve as a legal document for health and medical care authorized by the IHS and rendered by health care providers under contract with the IHS.

The information collected is also used for: Planning for further care of the patient; for keeping an accurate record of the patient's health status and health services received and recommended; for planning future health care programs; for communicating among members of the health care team; for evaluating the health care rendered; for research and continuing education; and, for the provision of program health statistics.

Affected Public: Individuals and households.

Type of Respondents: Individuals.

Burden Hours: The table below provides the estimated burden hours for this information collection:

Data collection instrument | Estimated number of respondents | Responses per respondent | Annual number of responses | Burden per response * | Total annual burden hours
IHS-843-1A | 7,399 | 42 | 272,506 | 0.05 (3 mins) | 13,625.3
IDS * * | 13,717 | 1 | 13,717 | 0.05 (3 mins) | 685.8
Total | 21,116 |  |  |  | 14,311.1
* For ease of understanding, burden hours are provided in actual minutes.
* * Inpatient Discharge Summary (IDS).

There are no capital costs, operating costs and/or maintenance costs to respondents.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility and clarity of the information being collected; and (f) ways to minimize the public burden through the use of automated, electronic, mechanical, or other technological collection techniques or other forms of information technology.

Send Comments and Requests for Further Information: For the proposed collection or requests to obtain a copy of the data collection instrument(s) and instructions to: Mrs. Christina Rouleau, IHS Reports Clearance Officer, 801 Thompson Avenue, TMP, Suite 450, Rockville, MD 20852, call non-toll free (301) 443-5938, send via facsimile to (301) 443-2316, or send your e-mail requests, comments, and return address to: crouleau@hqe.ihs.gov.

Comment Due Date: Your comments regarding this information collection are best assured of having their full effect if received within 60 days of the date of this publication.

Dated: July 6, 2006.
Charles W. Grim,
Assistant Surgeon General, Director, Indian Health Service.

[FR Doc. 06-6171 Filed 7-12-06; 8:45 am]

BILLING CODE 4165-16-M